DEPARTMENT OF ENERGY

Biological and Environmental Research Advisory Committee Meeting; Cancellation

AGENCY: Department of Energy.

ACTION: Notice of cancellation.

SUMMARY: On June 17, 2015, in 80 FR 34627, the Department of Energy (DOE) published a notice of open teleconference announcing a meeting on July 17, 2015 of the Biological and Environmental Research Advisory Committee. Due to the uncompleted report to be discussed during the meeting, this notice announces the postponement of this meeting until further notice.

FOR FURTHER INFORMATION CONTACT: Dr. Sharlene Weatherwax, Designated Federal Officer, BERAC, U.S. Department of Energy, Office of Science, Office of Biological and Environmental Research, SC-23/Germantown Building, 1000 Independence Avenue SW., Washington, DC 20585-1290. Telephone (301) 903-3251; fax (301) 903-5051 or email: sharlene.weatherwax@science.doe.gov.

Issued in Washington, DC, on July 9, 2015.
LaTanya R. Butler,
Deputy Committee Management Officer.

[FR Doc. 2015-17346 Filed 7-14-15; 8:45 am]

BILLING CODE 6450-01-P